DEPARTMENT OF HOMELAND SECURITY

U.S. Customs and Border Protection

Notice of Revocation of Customs Brokers' Licenses

AGENCY: U.S. Customs and Border Protection, Department of Homeland Security.

ACTION: Revocation of customs brokers' licenses.

SUMMARY: This document provides notice of the revocation of customs brokers' licenses by operation of law.

FOR FURTHER INFORMATION CONTACT: Julia D. Peterson, Branch Chief, Broker Management, Office of Trade, (202) 863-6601, julia.peterson@cbp.dhs.gov.

SUPPLEMENTARY INFORMATION: This document provides notice that, pursuant to section 641 of the Tariff Act of 1930, as amended (19 U.S.C. 1641), and section 111.30(d) of title 19 of the Code of Federal Regulations (19 CFR 111.30(d)), the following customs brokers' licenses were revoked by operation of law, without prejudice, for failure to file a triennial status report. A list of revoked customs brokers' licenses appears, below, in alphabetical order by name.

Last/company name | First name | License | Port of issuance
Gause | Gabrielle | 17291 | Charleston.
Hall | Wisty | 14475 | Charleston.
Hamann | Traci D. | 10241 | Charleston.
Harrell | Barbara | 10565 | Charleston.
Pitt | Marisa | 10160 | Charleston.
Powers | Brenda | 10247 | Charleston.
Seymour | Jeanne | 12246 | Charleston.
St. Laurent | Fred | 15395 | Charleston.
Wrench | Shirley | 06055 | Charleston.

Dated: October 11, 2016.
Brenda B. Smith,
Executive Assistant Commissioner, Office of Trade.

[FR Doc. 2016-24955 Filed 10-14-16; 8:45 am]

BILLING CODE 9111-14-P